NATIONAL FOUNDATION ON THE ARTS AND THE HUMANITIES

Meetings of Humanities Panel

AGENCY: National Endowment for the Humanities.

ACTION: Notice of meetings.

SUMMARY: The National Endowment for the Humanities will hold seventeen meetings of the Humanities Panel, a federal advisory committee, during March, 2015. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See SUPPLEMENTARY INFORMATION for meeting room numbers.

FOR FURTHER INFORMATION CONTACT: Lisette Voyatzis, Committee Management Officer, 400 7th Street SW., Room, 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. DATE: March 10, 2015.

TIME: 8:30 a.m. to 5:00 p.m.

ROOM: P003.

This meeting will discuss applications on the subjects of Anglophone and Latin American Literature for the Scholarly Editions and Translations grant program, submitted to the Division of Research Programs.

2. DATE: March 11, 2015.

TIME: 8:30 a.m. to 5:00 p.m.

ROOM: P003.

This meeting will discuss applications on the subject of American History for the Scholarly Editions and Translations grant program, submitted to the Division of Research Programs.

3. DATE: March 12, 2015.

TIME: 8:30 a.m. to 5:00 p.m.

ROOM: P003.

This meeting will discuss applications on the subject of New World Archeology for the Collaborative Research grant program, submitted to the Division of Research Programs.

4. DATE: March 17, 2015.

TIME: 8:30 a.m. to 5:00 p.m.

ROOM: P003.

This meeting will discuss applications on the subjects of World History and Literature for the Collaborative Research grant program, submitted to the Division of Research Programs.

5. DATE: March 18, 2015.

TIME: 8:30 a.m. to 5:00 p.m.

ROOM: P003.

This meeting will discuss applications on the subjects of Old World Archeology and Classics for the Collaborative Research grant program, submitted to the Division of Research Programs.

6. DATE: March 19, 2015.

TIME: 8:30 a.m. to 5:00 p.m.

ROOM: P003.

This meeting will discuss applications on the subject of World History for the Scholarly Editions and Translations grant program, submitted to the Division of Research Programs.

7. DATE: March 23, 2015.

TIME: 8:30 a.m. to 5:00 p.m.

ROOM: 4002.

This meeting will discuss applications on the subject of History for Media Projects: Production Grants, submitted to the Division of Public Programs.

8. DATE: March 24, 2015.

TIME: 8:30 a.m. to 5:00 p.m.

ROOM: 4002.

This meeting will discuss applications on the subject of Art for Museums, Libraries, and Cultural Organizations: Implementation Grants, submitted to the Division of Public Programs.

9. DATE: March 24, 2015.

TIME: 8:30 a.m. to 5:00 p.m.

ROOM: P003.

This meeting will discuss applications for the Sustaining Cultural Heritage Collections grant program, submitted to the Division of Preservation and Access.

10. DATE: March 24, 2015.

TIME: 8:30 a.m. to 5:00 p.m.

ROOM: P002.

This meeting will discuss applications on the subject of American Studies for the Collaborative Research grant program, submitted to the Division of Research Programs.

11. DATE: March 25, 2015.

TIME: 8:30 a.m. to 5:00 p.m.

ROOM: P003.

This meeting will discuss applications on the subjects of Philosophy and Religion for the Scholarly Editions and Translations grant program, submitted to the Division of Research Programs.

12. DATE: March 26, 2015.

TIME: 8:30 a.m. to 5:00 p.m.

ROOM: P002.

This meeting will discuss applications for the Sustaining Cultural Heritage Collections grant program, submitted to the Division of Preservation and Access.

13. DATE: March 26, 2015.

TIME: 8:30 a.m. to 5:00 p.m.

ROOM: P003.

This meeting will discuss applications on the subject of Arts for the Collaborative grant program, submitted to the Division of Research Programs.

14. DATE: March 26, 2015.

TIME: 8:30 a.m. to 5:00 p.m.

ROOM: 4002.

This meeting will discuss applications on the subject of History for Media Projects: Production Grants, submitted to the Division of Public Programs.

15. DATE: March 30, 2015.

TIME: 8:30 a.m. to 5:00 p.m.

ROOM: 4002.

This meeting will discuss applications on the subject of History for Museums, Libraries, and Cultural Organizations: Implementation Grants, submitted to the Division of Public Programs.

16. DATE: March 31, 2015.

TIME: 8:30 a.m. to 5:00 p.m.

ROOM: P002.

This meeting will discuss applications for the Sustaining Cultural Heritage Collections grant program, submitted to the Division of Preservation and Access.

17. DATE: March 31, 2015.

TIME: 8:30 a.m. to 5:00 p.m.

ROOM: P003.

This meeting will discuss applications on the subjects of Philosophy, Religion, and History of Science for the Collaborative Research grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: February 19, 2015.
Lisette Voyatzis,
Committee Management Officer.

[FR Doc. 2015-03761 Filed 2-23-15; 8:45 am]

BILLING CODE 7536-01-P